DEPARTMENT OF COMMERCE

National Oceanic and Atmospheric Administration

50 CFR Part 635

RIN 0648-BC09

Atlantic Highly Migratory Species; 2006 Consolidated Highly Migratory Species Fishery Management Plan; Amendment 7

AGENCY: National Marine Fisheries Service (NMFS), National Oceanic and Atmospheric Administration (NOAA), Department of Commerce.

ACTION: Notice of additional public hearing conference call and webinar.

SUMMARY: On August 22, 2013, NMFS published a notice of public hearings for Draft Amendment 7 to the 2006 Consolidated Highly Migratory Species (HMS) Fishery Management Plan (2006 Consolidated HMS FMP), which included 10 public hearings. Due to the government shut down and NMFS' inability to respond to constituents on this complex rule during that time frame and based on the comments received to date requesting an extension due to the complexity and interplay of the measures covered in the DEIS, NMFS extended the comment period for this action until January 10, 2014. To provide an additional opportunity for interested members of the public from all geographic areas to submit verbal comments, NMFS will host a public hearing conference call and webinar. In this notice, NMFS announces the date, time, and call-in information for the conference call and webinar for management measures proposed in Draft Amendment 7. On August 21, 2013, NMFS published the proposed rule for Draft Amendment 7 to the 2006 Consolidated HMS Fishery Management Plan to control bluefin incidental catch (landings and dead discards) in the pelagic longline fishery, enhance reporting in all categories, and ensure U.S. compliance with the ICCAT-recommended quota.

DATES: An operator-assisted, public conference call and webinar will be held on January 8, 2014, from 1:00 p.m. to 4:00 p.m., EST. Written comments will be accepted until January 10, 2014.

ADDRESSES: The conference call information is phone number 800-619-7481; participant pass code 5246202. Participants are strongly encouraged to log/dial in fifteen minutes prior to the meeting. NMFS will show a brief presentation via webinar followed by public comment. RSVP at https://www1.gotomeeting.com/register/470946448. A confirmation email with webinar log-in information will be sent after your RSVP has been registered.

You may submit comments on the proposed rule, identified by “NOAA-NMFS-2013-0101,” by any of the following methods:

• Electronic Submission: Submit all electronic public comments via the Federal e-Rulemaking Portal. Go to www.regulations.gov/#!docketDetail;D=NOAA-NMFS-2013-101, click the “Comment Now!” icon, complete the required fields, and enter or attach your comments. Do not submit electronic comments to individual NMFS staff.

• Mail: Submit written comments to Thomas Warren, Highly Migratory Species Management Division, NMFS, 55 Great Republic Drive, Gloucester, MA 01930. Please mark the outside of the envelope “Comments on Amendment 7 to the HMS FMP.”

• Instructions: Comments must be submitted by one of the above methods to ensure that the comments are received, documented, and considered by NMFS. Comments sent by any other method, to any other address or individual, or received after the end of the comment period, may not be considered. All comments received are a part of the public record and generally will be posted for public viewing on www.regulations.gov without change. All Personal Identifying Information (e.g., name, address, etc.), confidential business information, or otherwise sensitive information submitted voluntarily by the sender will be publicly accessible. Do not submit Confidential Business Information or otherwise sensitive or protected information. NMFS will accept anonymous comments (enter “N/A” in the required fields if you wish to remain anonymous). You may submit attachments to electronic comments in Microsoft Word or Excel, or Adobe PDF file formats only.

FOR FURTHER INFORMATION CONTACT: Thomas Warren or Brad McHale at 978-281-9260; Craig Cockrell or Jennifer Cudney at 301-427-8503.

SUPPLEMENTARY INFORMATION: The North Atlantic tuna fisheries are managed under the dual authority of the Magnuson-Stevens Fishery Conservation and Management Act (Magnuson-Stevens Act) and the Atlantic Tunas Convention Act (ATCA). Under the Magnuson-Stevens Act, NMFS must manage fisheries to maintain optimum yield on a continuing basis while preventing overfishing. ATCA authorizes the Secretary of Commerce (Secretary) to promulgate regulations as may be necessary and appropriate to carry out recommendations of the International Commission for the Conservation of Atlantic Tunas (ICCAT). The authority to issue regulations under the Magnuson-Stevens Act and ATCA has been delegated from the Secretary to the Assistant Administrator for Fisheries, NMFS. Management of these species is described in the 2006 Consolidated HMS FMP, which is implemented by regulations at 50 CFR part 635. Copies of the 2006 Consolidated HMS FMP and previous amendments are available from NMFS on request (see FOR FURTHER INFORMATION CONTACT).

On August 21, 2013 (78 FR 52032), NMFS published proposed regulations to implement Amendment 7 to the 2006 Consolidated HMSFMP to control bluefin landings and dead discards in the pelagic longline fishery, enhance reporting in all categories, and ensure U.S. compliance with the ICCAT-recommended quota. As described in the proposed rule, the proposed management measures include: (1) Allocation measures that would make modifications to how the U.S. bluefin quota is allocated among the quota categories; (2) Area based measures that would implement restrictions on the use of pelagic longline gear in various time and area combinations, modify gear restrictions, or provide conditional access to current pelagic longline closed areas; (3) Bluefin quota controls that would strictly limit the total catch (landings and dead discards) of bluefin in the Longline category using different strategies; (4) Enhanced reporting measures that would implement a variety of new bluefin reporting requirements; and (5) Other measures that would make modifications to the rules that control how the various quota categories utilize quota, and implement a northern albacore tuna quota. Although the Amendment 7 proposed rule set the end of the comment period to October 23, 2013, NMFS subsequently extended the end of the comment period December 10, 2013 (78 FR 57340; September 18, 2013) and then again to January 10, 2014 (78 FR 75327; December 11, 2013), in order to provide additional time for the public to consider the proposed rule, given its length and complexity.

Status of Public Hearings and Request for Comments

Ten public hearings have been held to date: San Antonio, TX; Gloucester, MA; Manteo, NC; Charleston, SC; Belle Chasse, LA; Portland, ME; Panama City, FL; Fort Pierce, FL; St. Petersburg, FL; and Toms River, NJ. NMFS also conducted consultations with the New England Fishery Management Council, the Gulf of Mexico Fishery Management Council, and the South Atlantic Fishery Management Council.

Additional Public Hearing Conference Call and Webinar

The additional public hearing conference call and webinar will be held on January 8, 2014, from 1:00 p.m. to 4:00 p.m. EST. NMFS is holding this call to allow for an additional opportunity for interested members of the public from all geographic areas to submit verbal comments on the Amendment 7 proposed rule.

Public Hearing Code of Conduct

The public is reminded that NMFS expects participants at public hearings, council meetings, and phone conferences to conduct themselves appropriately. At the beginning of each meeting, a representative of NMFS will explain the ground rules (e.g., all comments are to be directed to the agency on the proposed action; attendees will be called to give their comments in the order in which they registered to speak; each attendee will have an equal amount of time to speak; attendees may not interrupt one another; etc.). NMFS representative(s) will structure the meeting so that all attending members of the public will be able to comment, if they so choose, regardless of the controversial nature of the subject(s). Attendees are expected to respect the ground rules, and those that do not may be asked to leave the meeting.

Authority: 16 U.S.C. 971 et seq; 16 U.S.C. 1801 et seq.

Dated: December 19, 2013.
Sean F. Corson,
Acting Deputy Director, Office of Sustainable Fisheries, National Marine Fisheries Service.

[FR Doc. 2013-30643 Filed 12-24-13; 8:45 am]

BILLING CODE 3510-22-P